DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On February 20, 2019, OFAC determined that the property and interests in property subject to U.S. jurisdiction of the following persons are blocked under the relevant sanctions authorities listed below.

Individuals

1. HAKIMZADA, Jasmeet (a.k.a. SINGH, Jasmeet), Flat 17, 2nd FL Atlas Tower, Jamal Abdud Nasir Rd., Sharjah, United Arab Emirates; DOB 26 Jun 1979; nationality India; Gender Male; Passport Z2030393 (India) (individual) [SDNTK]. Identified as a significant foreign narcotics trafficker pursuant to section 805(b)(1) of the Foreign Narcotics Kingpin Designation Act, 21 U.S.C. 1904(b)(1) (Kingpin Act).

2. HAKIMZADA, Harmohan Singh (a.k.a. SING, Har Mohan), Flat 17, 2nd FL Atlas Tower, Jamal Abdud Nasir Rd., Sharjah, United Arab Emirates; DOB 23 Jun 1953; nationality India; Gender Male; Passport 1850327 (India); alt. Passport Z1432933 (India) (individual) [SDNTK] (Linked To: HAKIMZADA, Jasmeet) Designated pursuant to section 805(b)(2) of the Kingpin Act, for materially assisting in, or providing financial or technological support for or to, or providing goods or services in support of, the international narcotics trafficking activities of Jasmeet HAKIMZADA, a significant foreign narcotics trafficker designated by the Secretary of the Treasury pursuant to the Kingpin Act; also designated pursuant to section 805(b)(3) of the Kingpin Act for being owned, controlled, or directed by, or acting for or on behalf of, Jasmeet HAKIMZADA, a significant foreign narcotics trafficker designated by the Secretary of the Treasury pursuant to the Kingpin Act.

3. KAUR, Eljeet (a.k.a. HAKIMZADA KAUR, Eljeet), Flat 17, 2nd FL Atlas Tower, Jamal Abdud Nasir Rd., Sharjah, United Arab Emirates; DOB 03 May 1959; nationality India; Gender Female; Passport Z2525822 (India) (individual) [SDNTK] (Linked To: HAKIMZADA, Jasmeet). Designated pursuant to section 805(b)(3) of the Kingpin Act for being owned, controlled, or directed by, or acting for or on behalf of, Jasmeet HAKIMZADA, a significant foreign narcotics trafficker designated by the Secretary of the Treasury pursuant to the Kingpin Act, and Harmohan HAKIMZADA, a foreign person designated by the Secretary of the Treasury pursuant to the Kingpin Act.

Entities

1. MAIWAND GENERAL TRADING CO LLC, API Building, 2nd Floor, Suite 202, Deira, Dubai, United Arab Emirates; Business Registration Number 229172 (United Arab Emirates) [SDNTK] (Linked To: HAKIMZADA, Jasmeet; Linked To: HAKIMZADA, Harmohan). Designated pursuant to section 805(b)(2) of the Kingpin Act for materially assisting in, or providing financial or technological support for or to, or providing goods or services in support of, the international narcotics trafficking activities of the Jasmeet HAKIMZADA, a significant foreign narcotics trafficker designated by the Secretary of the Treasury pursuant to the Kingpin Act, and Harmohan HAKIMZADA, a foreign person designated by the Secretary of the Treasury pursuant to the Kingpin Act; also designated pursuant to section 805(b)(3) of the Kingpin Act for being owned, controlled, or directed by, or acting for or on behalf of, Jasmeet HAKIMZADA, a significant foreign narcotics trafficker designated by the Secretary of the Treasury pursuant to the Foreign Narcotics Kingpin Designation Act, and Harmohan HAKIMZADA, a foreign person designated by the Secretary of the Treasury pursuant to the Foreign Narcotics Kingpin Designation Act.

2. MAIWAND EXIM PRIVATE LIMITED, F-1129, Chitranjan Park, New Delhi 110019, India; Company Number U51909DL2006PTC14620 (India); alt. Company Number U51909DL2006PTC146202 (India) [SDNTK] (Linked To: HAKIMZADA, Jasmeet; Linked To: HAKIMZADA, Harmohan). Designated pursuant to section 805(b)(3) of the Kingpin Act for being owned, controlled, or directed by, or acting for or on behalf of Jasmeet HAKIMZADA, a significant foreign narcotics trafficker designated by the Secretary of the Treasury pursuant to the Kingpin Act, and Harmohan HAKIMZADA, a foreign person designated by the Secretary of the Treasury pursuant to the Kingpin Act.

3. MAIWAND TOBACCO LIMITED, E-70 1st Floor Greater Kailash Part II, New Delhi 110048, India; Company Number Ul6003DL2005PLC140650 (India); alt. Company Number U16003DL200PLC140650 (India) [SDNTK] (Linked To: HAKIMZADA, Jasmeet; Linked To: HAKIMZADA, Harmohan). Designated pursuant to section 805(b)(3) of the Kingpin Act for being owned, controlled, or directed by, or acting for or on behalf of Jasmeet HAKIMZADA, a significant foreign narcotics trafficker designated by the Secretary of the Treasury pursuant to the Kingpin Act, and Harmohan HAKIMZADA, a foreign person designated by the Secretary of the Treasury pursuant to the Kingpin Act.

4. MAIWAND BEVERAGES LIMITED, S-439, Greater Kailash Part II, New Delhi 110048, India; Company Number U51900DL2012PLC23061 (India); alt. Company Number U51900DL2012PLC230619 (India) [SDNTK] (Linked To: HAKIMZADA, Jasmeet; Linked To: HAKIMZADA, Harmohan). Designated pursuant to section 805(b)(3) of the Kingpin Act for being owned, controlled, or directed by, or acting for or on behalf of Jasmeet HAKIMZADA, a significant foreign narcotics trafficker designated by the Secretary of the Treasury pursuant to the Kingpin Act, and Harmohan HAKIMZADA, a foreign person designated by the Secretary of the Treasury pursuant to the Kingpin Act.

Dated: February 20, 2019.
Andrea M. Gacki,
Director, Office of Foreign Assets Control.

[FR Doc. 2019-03314 Filed 2-25-19; 8:45 am]

BILLING CODE 4810-AL-P